FEDERAL COMMUNICATIONS COMMISSION

Notice of Public Information Collection(s) Approved by the Office of Management and Budget

July 27, 2009.

SUMMARY: On July 22, 2009, the Federal Communications Commission (Commission) received Office of Management and Budget (OMB) approval, pursuant to the Paperwork Reduction Act of 1995 (44 U.S.C. 3501-3520), for the public information collections contained in § 10.350 of the Commission's rules, as adopted by the Commission in its Commercial Mobile Alert System, Second Report and Order and Further Notice of Proposed Rulemaking, 23 FCC Rcd. 10765 (rel. July 8, 2008) (“CMAS Second Report and Order Order”). The effective date for the information collections contained in § 10.350 was deferred until approved by OMB. In this document, the Commission provides notice that those information collections have been approved by OMB and are effective immediately.

An agency may not conduct or sponsor a collection of information unless it displays a currently valid OMB control number, and no person is required to respond to a collection of information unless it displays a currently valid OMB control number. Comments concerning the accuracy of the burden estimate(s) and any suggestions for reducing the burden should be directed to the person listed in the “FOR FURTHER INFORMATION CONTACT” section below.

FOR FURTHER INFORMATION CONTACT: Leslie Haney, Leslie.Haney@fcc.gov, (202) 418-1002.

SUPPLEMENTARY INFORMATION: OMB Control Number: 3060-1126.

OMB Approval Date: July 22, 2009.

Expiration Date: July 31, 2012.

Title: Section 10.350, Testing Requirements for the Commercial Mobile Alert System (CMAS)

Form No.: Not applicable.

Estimated Annual Burden: 1,752 responses; 2.5 seconds per response; 2 hours annual total.

Obligation to Respond: Required to obtain or retain benefits. Statutory authority for this information collection is contained in 47 U.S.C. 151, 154(i), and (o), 201, 303(r), 403 and 606 of the Communications Act of 1934, as amended; as well as by sections 602(a), (b), (c), and (f), 603, 604, and 606 of the WARN Act.

Nature and Extent of Confidentiality: There is no need for confidentiality.

Needs and Uses: The Commission requested OMB approval of a new information collection in order to obtain the full three-year clearance from them. The Commission's estimates for public burden are described above.

As required by the Warning, Alert, and Response Network (WARN) Act, Public Law 109-347, the Federal Communications Commission adopted final rules to establish a Commercial Mobile Alert System (CMAS), under which the Commercial Mobile Service (CMS) providers may elect to transmit emergency alerts to the public, see Second Report and Order and Further Notice of Proposed Rulemaking, FCC 08-164, 23 FCC Rcd. In order to ensure that the CMAS operates efficiently and effectively, the Commission requires participating CMS providers to receive required monthly test messages initiated by the Federal Alert Gateway Administrator, to test their infrastructure and internal CMAS delivery systems by distributing the monthly message to their CMAS coverage area, and to log the results of the tests. The Commission also requires periodic testing of the interface between the Federal Alert Gateway and each CMS Provider Gateway to ensure the availability and viability of both gateway functions. The CMS Provider Gateways must send an acknowledgement to the Federal Alert Gateway upon receipt of these interface test messages.

The Commission, the Federal Alert Gateway and participating CMS providers will use this information to ensure the continued functioning of the CMAS, thus complying with the WARN Act and the Commission's obligation to promote the safety of life and property through the use of wire and radio communications.

Federal Communications Commission.
Marlene H. Dortch,
Secretary

[FR Doc. E9-18377 Filed 7-30-09; 8:45 am]

BILLING CODE 6712-01-P